DEPARTMENT OF COMMERCE

International Trade Administration

[A-489-807]

Certain Steel Concrete Reinforcing Bars From Turkey; Amended Final Results of Antidumping Duty Administrative Review

AGENCY: Import Administration, International Trade Administration, Department of Commerce.

EFFECTIVE DATE: December 6, 2001.

SUMMARY: The Department of Commerce is publishing amended final results of the antidumping duty administrative review on certain steel concrete reinforcing bars from Turkey.

FOR FURTHER INFORMATION CONTACT: Irina Itkin or Elizabeth Eastwood, AD/CVD Enforcement Group I, Office 2, Import Administration, International Trade Administration, U.S. Department of Commerce, 14th Street and Constitution Avenue, NW, Washington, DC 20230; telephone (202) 482-0656 or (202) 482-3874, respectively.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (2000).

Amendment to Final Results

In accordance with section 751(a) of the Act, on November 7, 2001, the Department published the final results of administrative review of the antidumping duty order on certain steel concrete reinforcing bars (rebar) from Turkey. See Certain Steel Concrete Reinforcing Bars from Turkey; Final Results of Antidumping Duty Administrative Review, 66 FR 56274 (Nov. 7, 2001). On November 13, 2001, we received an allegation, timely filed pursuant to 19 CFR 351.224(c)(2), from a respondent, the Ekinciler Group (Ekinciler), that the Department had made a ministerial error in its final results. We did not receive comments from Colakoglu Metalurji A.S. (Colakoglu), Diler Demir Celik Endustrisi ve Ticaret A.S., Yazici Demir Celik Sanayi ve Ticaret A.S., and Diler Dis Ticaret A.S. (collectively “Diler”), or ICDAS Celik Enerji Tersane ve Ulasim Sanayi, A.S. (ICDAS), the other three respondents in this review. After analyzing Ekinciler's submission, we have determined, in accordance with 19 CFR 351.224, that a ministerial error was made because we did not publish the correct recalculated margin for Ekinciler in the Federal Register.

On November 13, 2001, we also received ministerial error allegations from AmeriSteel Corporation, the petitioner in this review. After analyzing the petitioner's submission, we have also determined, in accordance with 19 CFR 351.224, that a second ministerial error was made in our final margin calculation for Ekinciler. Specifically, we find that we failed to properly sum Ekinciler's adjusted financing expenses as shown in Attachment 2 of the October 31, 2001, memorandum from Elizabeth Eastwood to the file entitled “Calculations Performed for the Ekinciler Group (Ekinciler) for the Final Results in the 1999-2000 Antidumping Duty Administrative Review on Steel Concrete Reinforcing Bars from Turkey.” Correcting this mistake resulted in a revised interest expense ratio for Ekinciler, and thus a revised margin.

For a detailed discussion of the ministerial errors noted above, as well as the Department's analysis, see the memorandum to Richard W. Moreland from the Team, dated November 29, 2001.

Therefore, in accordance with 19 CFR 351.224(e), we are amending the final results of the 1999-2000 antidumping duty administrative review of rebar from Turkey. The revised weight-averaged dumping margins are as follows:

Exporter/ manufacturer | Original final margin percentage | Revised final margin percentage | Revised final | margin percentage
Colakoglu Metalurji A.S. | 9.51 |
Ekinciler Holding A.S./Ekinciler Demir Celik A.S. | 6.83 | 8.41
Diler Demir Celik Endustrisi ve ticaret A.S./Yazici Demir Celik Sanayi ve ticaret A.S./Diler Dis Ticaret A.S. | 0.00 |
ICDAS Celik Enerji Tersane ve Ulasim Sanayi A.S. | 0.00 |

This administrative review and notice are in accordance with sections 751(a)(1) and 777(i) of the Act.

Dated: November 29, 2001.
Richard W. Moreland,
Acting Assistant Secretary for Import Administration.

[FR Doc. 01-30285 Filed 12-5-01; 8:45 am]

BILLING CODE 3510-DS-P